DEPARTMENT OF TRANSPORTATION

Maritime Administration

[Docket Number: MARAD-2002-12834]

Requested Administrative Waiver of the Coastwise Trade Laws

AGENCY: Maritime Administration, Department of Transportation.

ACTION: Invitation for public comments on a requested administrative waiver of the Coastwise Trade Laws for the vessel WAVE DANCER.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR part 388 (65 FR 6905; February 11, 2000) that the issuance of the waiver will have an unduly adverse effect on a U.S.-vessel builder or a business that uses U.S.-flag vessels, a waiver will not be granted.

DATES: Submit comments on or before August 19, 2002.

ADDRESSES: Comments should refer to docket number MARAD-2002-12834. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR part 388.

Vessel Proposed for Waiver of the U.S.-Build Requirement

(1) Name of vessel and owner for which waiver is requested. Name of vessel: WAVE DANCER. Owner: Glenn M. Glesmann and William S. Kenney.

(2) Size, capacity and tonnage of vessel. According to the applicant: “Gross Tonnage—9, Net Tonnage—8, Length—30.3 ft., Breadth—11.7 ft., Depth—5.6 ft.”

(3) Intended use for vessel, including geographic region of intended operation and trade. According to the applicant: “I intend to use the vessel for short charters (mostly day sails) carrying up to six passengers. Charters would originate in the waters of Cape Ann, Massachusetts, including the towns of Rockport, Gloucester, and Essex. The purpose of these charters is to provide an opportunity for passengers to enjoy the local waters on a seaworthy sailing vessel with an experienced and licensed captain (Glen M. Glesmann, USCG Master 50 tons Inland Waters).”

(4) Date and Place of construction and (if applicable) rebuilding. Date of construction: 1984. Place of construction: St. Catherine's, Ontario, Canada.

(5) A statement on the impact this waiver will have on other commercial passenger vessel operators. According to the applicant: “Currently, there are few operators of sailing vessels carrying passengers in the Cape Ann area. I know of a 65 foot schooner operating out of Gloucester (The Thomas Lannon), carrying up to 49 passengers. A smaller sailing vessel named CHRISSY advertises for day trips out of Essex for up to six passengers. The vast majority of operators in the area cater to fishing, whale watching or harboring tours on motorized crafts.

Because there are so few operators of commercial sailing craft in the area, I believe me impact on existing would be negligible. My charter operation would be a part-time pursuit, further lessening the impact on full-time operators.”

(6) A statement on the impact this waiver will have on U.S. shipyards. According to the applicant: “I believe that granting this waiver would have no impact on US shipyards. Only a tiny fraction of boats of my type find their way into commercial use. US manufacturers of auxiliary sailing vessels cater to the vast recreational market with little concern for commercial use vessels.”

Dated: July 15, 2002.
By Order of the Maritime Administrator.
Joel C. Richard,
Secretary, Maritime Administration.

[FR Doc. 02-18299 Filed 7-18-02; 8:45 am]

BILLING CODE 4910-81-P